DEPARTMENT OF COMMERCE

National Oceanic and Atmospheric Administration

[I.D. 020504E]

South Atlantic Fishery Management Council; Public Meetings

AGENCY: National Marine Fisheries Service (NMFS), National Oceanic and Atmospheric Administration (NOAA), Commerce.

ACTION: Notice of public meetings.

SUMMARY: The South Atlantic Fishery Management Council (Council) will hold a meeting of its Snapper Grouper Committee, Scientific and Statistical Committee, Mackerel Committee, and Shrimp Committee. In addition, there will be a meeting of the full Council.

DATES: The meetings will be held on March 2-5, 2004. See SUPPLEMENTARY INFORMATION for specific dates and times.

ADDRESSES: The meeting will be held at Sea Palms, 5445 Frederica Road, St. Simons Island, GA 31522; telephone: (1-800) 841-6268 or (912) 638-3351.

Council address: South Atlantic Fishery Management Council, One Southpark Circle, Suite 306, Charleston, SC 29407-4699.

Copies of documents are available from Kim Iverson at the Council.

FOR FURTHER INFORMATION CONTACT: Kim Iverson, Public Information Officer; telephone: 843-571-4366 or toll free at 866/SAFMC-10; fax: 843-769-4520; email: kim.iverson@safmc.net.

SUPPLEMENTARY INFORMATION:

Meeting Dates

1. Snapper Grouper Committee Meeting: March 2, 2004, 8:30 a.m.- 5:30 p.m. and March 3, 2004, 8:30 a.m.- 10:30 a.m.

The Snapper Grouper Committee will receive an update on the Southeastern Data, Assessment and Review (SEDAR) process and the status of Amendment 13A to the Snapper/Grouper Fishery Management Plan (FMP). The Committee will receive preliminary results from informational public hearings regarding Amendment 14 to the Snapper/Grouper FMP and receive a report on the Atlantic Large Whale Take Reduction Team. In addition, the Committee will discuss and develop recommendations for the Council on Amendment 13B to the Snapper Grouper FMP.

2. Scientific and Statistical Selection Committee Meeting: March 3, 2004, 10:30 a.m. - 12 noon.

The Scientific and Statistical Selection Committee will review current members of the Scientific and Statistical Committee (SSC), discuss interest in expanding the role of the SSC and subcommittees, and develop recommendations for the Council.

3. Mackerel Committee Meeting: March 3, 2004, 1:30 p.m. until 5:30 p.m.

The Mackerel Committee will receive an update on the SEDAR for mackerel and receive a report on the Atlantic Large Whale Take Reduction Team. The Committee will also discuss and develop recommendations for the Council on Scoping Documents for Amendment 15 and Amendment 16 to the Coastal Migratory Pelagics FMP. In addition, the Committee will receive a presentation on the Marine Stewardship Council.

4. Shrimp Committee Meeting: March 4, 2004, 8:30 a.m. - 12 noon

The Shrimp Committee will receive an update on timing for the development of Amendment 6 to the Shrimp FMP and develop recommendations for the Council. The Committee will also receive a report from NOAA Fisheries on observer work and the Bycatch Data Collection Plan and develop recommendations for the Council. In addition, the Committee will review the options paper for Amendment 6 to the Shrimp FMP and develop alternatives for the Council to consider.

Council Session: March 4, 2004, 1:30 p.m. - 6 p.m. and March 5, 2004 from 8 a.m. until 1 p.m.

March 4, 2004

From 1:30 p.m. - 1:45 p.m., the Council will have a Call to Order, introductions and roll call, adoption of the agenda, and approval of the December 2003 meeting minutes.

From 1:45 p.m. - 2:15 p.m., the Council will address the transfer of management of red drum to the Atlantic States Marine Fisheries Commission (ASMFC), including the process for transfer and Essential Fish Habitat (EFH) considerations. The Council will take action as necessary.

From 2:15 p.m. - 2:45 p.m., the Council will receive a striped bass consultation including background information and possible need for action. The Council will take action as necessary.

From 2:45 p.m. - 5 p.m., the Council will hear a report from the Snapper Grouper Committee and take action on Committee recommendations as necessary. The Council will also receive a presentation on the final red porgy project report.

From 5 p.m. - 6 p.m., the Council will hear a report from the Mackerel Committee. The Council will take action on issues related to the SEDAR process for mackerel as well as scoping documents for both Amendment 15 and Amendment 16 to the Coastal Migratory Pelagics FMP.

March 5, 2004

From 8 a.m. - 8:30 a.m., the Council will receive a briefing on litigation and other legal issues affecting the Council (CLOSED SESSION).

From 8:30 a.m. - 9:30 a.m., the Council will hear a report from the Shrimp Committee and take action regarding timing issues for Amendment 6 to the Shrimp FMP and NOAA Fisheries' Bycatch Data Collection Plan. The Council will also take action regarding the Options Paper for Amendment 6 to the Shrimp FMP.

From 9:30 a.m. - 10 a.m., the Council will hear a report from the Ecosystem-Based Management Committee and take action as necessary.

From 10 a.m. - 10:30 a.m., the Council will receive a Joint Law Enforcement Committee and Advisory Panel report and take action as necessary.

From 10:30 a.m. - 11 a.m., the Council will hear a report from the SSC Selection Committee and take action on Committee recommendations as necessary.

From 11 a.m. - 11:30 a.m., the Council will receive a report on the upcoming Council Chairmen's meeting to be held in April 2004.

From 11:30 a.m. - 12:30 a.m., the Council will hear status reports from NOAA Fisheries regarding small tooth sawfish, National Standard 1 Guidelines, the Dolphin/Wahoo FMP and Final Rule, Snapper Grouper Amendment 13A and Final Rule, Highly Migratory Species management, implementation of the Atlantic Coast Cooperative Statistics Program in the Southeast Region, and hear landings reports regarding Atlantic king mackerel, Gulf king mackerel (eastern zone), Atlantic Spanish mackerel, snowy grouper, golden tilefish, wreckfish, greater amberjack, and south Atlantic ocotocorals.

From 12:30 p.m. - 1 p.m., the Council will hear agency and liaison reports, discuss other business and upcoming meetings.

Documents regarding these issues are available from the Council office (see ADDRESSES).

Although non-emergency issues not contained in this agenda may come before this Council for discussion, those issues may not be the subjects of formal Council action during this meeting. Council action will be restricted to those issues specifically listed in this notice and any issues arising after publication of this notice that require emergency action under section 305 (c) of the Magnuson-Stevens Act, provided the public has been notified of the Council's intent to take final action to address the emergency.

Except for advertised (scheduled) public hearings and public comment, the times and sequence specified on this agenda are subject to change.

Special Accommodations

These meetings are physically accessible to people with disabilities. Requests for sign language interpretation or other auxiliary aids should be directed to the Council office (see ADDRESSES) by March 1, 2004.

Dated: February 11, 2004.
Peter H. Fricke,
Acting Director, Office of Sustainable Fisheries, National Marine Fisheries Service.

[FR Doc. 04-3394 Filed 2-13-04; 8:45 am]

BILLING CODE 3510-22-S